FEDERAL RESERVE SYSTEM

Agency Information Collection Activities: Announcement of Board Approval Under Delegated Authority, Emergency Processing Provision, and Submission to OMB

SUMMARY:

Background

Notice is hereby given of final approval of revisions to current information collections by the Board of Governors of the Federal Reserve System (Board) under OMB delegated authority, as per 5 CFR 1320.16 (OMB Regulations on Controlling Paperwork Burdens on the Public) and the Paperwork Reduction Act emergency processing provision, as per 5 CFR 1320.13. The emergency approval is only valid until October 31, 2000. Board-approved collections of information are incorporated into the official OMB inventory of currently approved collections of information. Copies of the OMB 83-Is and supporting statements and approved collection of information instruments are placed into OMB's public docket files. The Federal Reserve may not conduct or sponsor, and the respondent is not required to respond to, an information collection that has been extended, revised, or implemented on or after October 1, 1995, unless it displays a currently valid OMB control number.

FOR FURTHER INFORMATION CONTACT: Chief, Financial Reports Section—Mary M. West—Division of Research and Statistics, Board of Governors of the Federal Reserve System, Washington, DC 20551 (202-452-3829); OMB Desk Officer—Alexander T. Hunt—Office of Information and Regulatory Affairs, Office of Management and Budget, New Executive Office Building, Room 3208, Washington, DC 20503 (202-395-7860).

Final Approval Under OMB Delegated Authority of the Revision Without Extension of the Following Reports

1. Report title: Bank Holding Company Report of Changes in Investments and Activities.

Agency form number: FR Y-6A.

OMB Control number: 7100-0124.

Effective Date: April 11, 2000.

Frequency: on occasion.

Reporters: bank holding companies, state member banks not affiliated with a bank holding company.

Annual reporting hours: 12,571.

Estimated average hours per response: 0.95 hours.

Number of respondents: 2,406.

Small businesses are not affected.

General description of report: This information collection is mandatory (12 U.S.C. 1844(b) and (c)) and is not routinely given confidential treatment. However, confidential treatment for the report information can be requested, in whole or part, in accordance with the instructions to the form.

Abstract: The Bank Holding Company Report of Changes in Investments and Activities is an event-generated report filed by top-tier bank holding companies to report changes in regulated investments and activities made pursuant to the Bank Holding Company Act and Regulation Y. The report collects information relating to acquisitions, divestitures, changes in activities, and legal authority. The number of FR Y-6As submitted varies depending on the reportable activity engaged in by each bank holding company.

As a result of the enactment of the Gramm-Leach-Bliley Act of 1999, the Federal Reserve has: (1) Required financial holding companies, other bank holding companies, and state member banks not affiliated with a bank holding company or financial holding company to complete the form, (2) added structure items to capture information on financial holding company status, financial subsidiary holder status, functionally regulated subsidiaries, and financial subsidiaries, (3) revised the index of regulatory codes and provisions and the index of activity codes, and (4) revised the instructions for the types of investments reportable on the form.

On March 17, 2000, the Federal Reserve published an interim rule in the Federal Register that established procedures that generally require a financial holding company to file a post-commencement notice with the appropriate Federal Reserve Bank within 30 days of commencing a financial activity or acquiring a company engaged in a financial activity (see 12 CFR 225.87). For activities or investments commencing before April 11, 2000, this notice could be submitted in the form of a letter and the agency form number for this information collection was the FR 4012.

For activities or investments commencing on or after April 11, 2000, and until the Federal Reserve indicates otherwise, an FHC must use the modified FR Y-6A to satisfy the post-commencement notice requirement. An FHC need not submit any additional documentation to fulfill the post-commencement notice requirement.

The Federal Reserve soon will undertake a comprehensive review of the FR Y-6A in order to streamline the form and instructions and make them easier to understand and complete. This review will include a Federal Register notice and a request for public comments.

2. Report title: Foreign Banking Organization Structure Report on U.S. Banking and Nonbanking Activities.

Agency form number: FR Y-7A.

OMB Control number: 7100-0125.

Effective Date: April 11, 2000.

Frequency: annual, on occasion.

Reporters: foreign banking organizations.

Annual reporting hours: 3,321.

Estimated average hours per response: 4.65 hour for annual reporters, 5 hours for financial holding companies that file on an event-generated basis.

Number of respondents: 327.

Small businesses are not affected.

General description of report: This information collection is mandatory (12 U.S.C. 1844(c), 3106, and 3108(a)). Upon request from a respondent, certain information may be given confidential treatment pursuant to the Freedom of Information Act (5 U.S.C. §§ 552(b)(4) and (6)).

Abstract: The FR Y-7A is an annual structural report completed by foreign banking organizations that engage in banking in the United States, either indirectly through a subsidiary bank, Edge or agreement corporation, or commercial lending company, or directly through a branch or agency. The report collects structural information on the foreign banking organization and its subsidiaries and is currently filed as of the reporter's fiscal year end. The information contained in this report is used by the Federal Reserve System to assess the foreign banking organization's ability to be a continuing source of strength to its U.S. banking operations and to determine compliance with U.S. laws and regulations.

As a result of the enactment of the Gramm-Leach-Bliley Act of 1999 (GLB Act), the Federal Reserve has: (1) Required foreign banking organizations that are financial holding companies to report changes in investments and activities related to the GLB Act on the FR Y-7A on an event-generated basis and file the report thirty calendar days after the event, (2) added structure items to capture information on financial holding company status, financial subsidiary holder status, functionally regulated subsidiaries, and financial subsidiaries, (3) revised the index of regulatory codes and provisions and the index of activity codes, and (4) revised the instructions for the types of investments reportable on the form.

On March 17, 2000, the Federal Reserve published an interim rule in the Federal Register that established procedures that generally require a financial holding company to file a post-commencement notice with the appropriate Federal Reserve Bank within 30 days of commencing a financial activity or acquiring a company engaged in a financial activity (see 12 CFR 225.87). For activities or investments commencing before April 11, 2000, this notice could be submitted in the form of a letter and the agency form number for this information collection was the FR 4012.

For activities or investments commencing on or after April 11, 2000, and until the Federal Reserve indicates otherwise, an FHC must use the modified FR Y-7A to satisfy the post-commencement notice requirement. An FHC need not submit any additional documentation to fulfill the post-commencement notice requirement.

The Federal Reserve soon will undertake a comprehensive review of the FR Y-7A, which will include a Federal Register notice and a request for public comment.

Board of Governors of the Federal Reserve System, April 13, 2000.
Jennifer J. Johnson,
Secretary of the Board.

[FR Doc. 00-9676 Filed 4-17-00; 8:45 am]

BILLING CODE 6210-01-P